DEPARTMENT OF TRANSPORTATION

Federal Motor Carrier Safety Administration

[Docket No. FMCSA-2007-28117]

Motor Carrier Safety Advisory Committee Public Meeting

AGENCY: Federal Motor Carrier Safety Administration (FMCSA), DOT.

ACTION: Notice of Motor Carrier Safety Advisory Committee meeting.

SUMMARY: FMCSA announces that the Motor Carrier Safety Advisory Committee (MCSAC) will hold its first planning and organizational meeting. The meeting is open to the public. Establishment of the advisory committee was announced in the Federal Register (71 FR 67200), on November 20, 2006.

DATES: The MCSAC meeting will be held from 8 a.m. to 4 p.m. on May 22-23, 2007.

ADDRESSES: The meeting will take place at the Hilton Alexandria Mark Center Hotel, 5000 Seminary Road, Alexandria, VA 22311.

FOR FURTHER INFORMATION CONTACT: Mr. Greg Parks, Acting Chief, Strategic Planning and Program Evaluation Division, Office of Policy Plans and Regulation, Federal Motor Carrier Safety Administration, U.S. Department of Transportation, 400 Seventh Street, SW., Washington, DC 20590-0001, (202) 366-5370, FMCSAregs@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish in FMCSA, a Motor Carrier Safety Advisory Committee. The advisory committee provides advice and recommendations to the FMCSA Administrator on motor carrier safety programs and motor carrier safety regulations. The advisory committee will operate in accordance with the Federal Advisory Committee Act (5 U.S.C. App 2). FMCSA Administrator John H. Hill appointed 15 members to serve on the advisory committee on March 5, 2007.

II. Meeting Participation:

The meeting is open to the public and FMCSA invites participation by all interested parties, including motor carriers, drivers, and representatives of motor carrier associations. During this initial organizational and planning meeting, oral comments will not be taken from the public. Individuals wanting to present written materials to the committee should submit written comments identified by DOT Docket Management System (DMC) Docket Number FMCSA-2007-28117 using any of the following methods:

• Web site: http://dmses.dot.gov/submit. Follow the instructions for submitting comments on the DOT electronic docket site.

• Fax: 202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

For information on facilities or services for individuals with disabilities or to request special assistance at the meeting, contact Karen Lynch at 202-366-8997.

Issued on: May 3, 2007.
Pamela M. Pelcovits,
Acting Associate Administrator for Policy and Program Development.

[FR Doc. E7-8809 Filed 5-7-07; 8:45 am]

BILLING CODE 4910-EX-P